DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Dates and Times:

Tuesday, November 29, 2016: 9:00 a.m.-5:30 p.m.

Wednesday, November 30, 2016: 8:30 a.m.-3:15 p.m.

Place: National Center for Health Statistics, 3311 Toledo Road, Hyattsville, Maryland 20782.

Status: Open.

Purpose: At the November 29-30, 2016 meeting, the Committee will focus on strategic planning resulting in a comprehensive 2017 Committee work plan at the time of adjournment. Individual work plans for each of the Subcommittees and the Work Group on HHS Data Access and Use also will be drafted. On the first day, the Committee will focus on legislatively mandated reports and activities such as the 12th Report to Congress, the next Affordable Care Act (ACA) Review Committee hearing, and requirements set forth in ACA section 10109. Additional areas where the Committee potentially could focus its attention in 2017 and beyond also will be discussed and considered for inclusion in its work plan. On the second day, the Committee will hear input from HHS officials on the Committee's proposed work plan and potential areas in which Committee expertise and input would be useful for the Department. Completion of reports and recommendations undertaken earlier in 2016 will also be discussed on the second day.

Contact Person for More Information: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the home page of the NCVHS Web site: http://www.ncvhs.hhs.gov/, where further information including an agenda and information for remote audio access to the meetings will also be posted.

Should you require reasonable accommodation, please contact the CDC Office of Equal Employment Opportunity on (301) 458-4EEO (4336) as soon as possible.

Dated: November 3, 2016.
James Scanlon,
Deputy Assistant Secretary for Planning and Evaluation, Office of the Assistant Secretary for Planning and Evaluation.

[FR Doc. 2016-27083 Filed 11-8-16; 8:45 am]

BILLING CODE 4151-05-P